DEPARTMENT OF COMMERCE

National Oceanic and Atmospheric Administration

[I.D. 011707F]

Pacific Fishery Management Council; Public Meetings

AGENCY: National Marine Fisheries Service (NMFS), National Oceanic and Atmospheric Administration (NOAA), Commerce.

ACTION: Notice of public meetings.

SUMMARY: The Pacific Fishery Management Council's (Council) Highly Migratory Species Management Team (HMSMT) and Highly Migratory Species Advisory Subpanel (HMSAS) will hold work sessions, which are open to the public.

DATES: The HMSMT/HMSAS work sessions will be held on Wednesday, February 7, 2007, from 8:30 a.m. until 5 p.m. and on Thursday, February 8, 2008, beginning at 8:30 a.m. until business is completed.

ADDRESSES: The work sessions will be held at the National Marine Fisheries Service, Southwest Fisheries Science Center, Large Conference Room and Green Room, 8604 La Jolla Shores Drive, La Jolla, CA 92037; telephone: (858) 546-7000.

Council address: Pacific Fishery Management Council, 7700 NE Ambassador Place, Suite 101, Portland, OR 97220-1384.

FOR FURTHER INFORMATION CONTACT: Dr. Kit Dahl, Pacific Fishery Management Council; telephone: (503) 820-2280.

SUPPLEMENTARY INFORMATION: The HMSMT/HMSAS work sessions will continue review of U.S. and Canadian albacore catch and effort data, with the intent of recommending an appropriate method to characterize historical effort in the fishery. The two groups will also review progress in developing environmental impact evaluations of exempted fishing permit proposals for 2007 and any information on potential applications for 2008. They will also discuss development of an fishery management plan amendment to address overfishing of yellowfin tuna in the eastern Pacific Ocean and procedures to enhance communication with regional fishery management organizations, including the Western Pacific Fishery Management Council. The HMSMT will also discuss preparation of the 2007 stock assessment and fishery evaluation report and related data issues.

Although non-emergency issues not contained in the meeting agenda may be discussed, those issues may not be the subject of formal action during these meetings. Action will be restricted to those issues specifically listed in this document and any issues arising after publication of this document that require emergency action under section 305(c) of the Magnuson-Stevens Fishery Conservation and Management Act, provided the public has been notified of the intent to take final action to address the emergency.

Special Accommodations

The meetings are physically accessible to people with disabilities. Requests for sign language interpretation or other auxiliary aids should be directed to Ms. Carolyn Porter at (503) 820-2280 at least 5 days prior to the meeting date.

Authority: 16 U.S.C. 1801 et seq.

Dated: January 18, 2007.
Tracey L. Thompson,
Acting Director, Office of Sustainable Fisheries, National Marine Fisheries Service.

[FR Doc. E7-933 Filed 1-22-07; 8:45 am]

BILLING CODE 3510-22-S